DEPARTMENT OF LABOR

Bureau of Labor Statistics

Business Research Advisory Council; Notice of Meeting and Agenda

The regular Spring meetings of the Business Research Advisory Council and its committees will be held on April 25 and 26, 2001. All of the meetings will be held in the Conference Center of the Postal Square Building, 2 Massachusetts Avenue, NE., Washington, DC.

The Business Research Advisory Council and its committees advise the Bureau of Labor Statistics with respect to technical matters associated with the Bureau's programs. Membership consists of technical officials from American business and industry.

The schedule and agenda for the meetings are as follows:

Wednesday, April 25, 2001—Meeting Rooms 9 & 10

10:00-11:30 a.m.—Committee on Employment Projections

1. Status of the 2000-2010 projections

2. The employment impact of electronic business

3. The employment outlook for college graduates

4. New classification systems and other data issues

5. Discussion of agenda items for the Fall 2001 meeting

1:00-2:30 p.m.—Committee on Productivity and Foreign Labor Statistics

1. Possible measurement bias in aggregate productivity measures: Update of Gullickson-Harper paper

2. Developments in industry productivity studies

3. Update on activities of the Division of International Technical Cooperation

4. Discussion of agenda items for the Fall 2001 meeting

1:00-2:30 p.m.—Committee on Safety and Health Statistics (Concurrent Session, Meeting Room #7)

1. Report on worker demographic and case circumstances data from the 1999 Survey of Occupational Injuries and Illnesses

2. Changes to the Survey of Occupational Injuries and Illnesses resulting from the revision of the OSHA record keeping rule

3. Report on the status of the Survey of Respirator Use and Practice

4. Update on the introduction of the North American Industry Classification System into the Survey of Occupational Injuries and Illnesses and the Census of Fatal Occupational Injuries

5. Proposed FY 2002 budget

6. Discussion of agenda items for the Fall 2001 meeting

3:00-4:30 p.m.—Committee on Price Indexes

1. Consumer Price Index discussion

2. Producer Price Index discussion

3. Discussion of other business

4. Discussion of agenda items for the Fall 2001 meeting

Thursday, April 26, 2001—Meeting Rooms 9 & 10

8:30-10:00 a.m.—Committee on Employment and Unemployment Statistics

1. Latest results from NLSY97 and NLSY79 surveys

2. BLS approach to secure Web reporting—demo and discussion

3. Discussion of agenda items for the Fall 2001 meeting

10:30 a.m.-12:00 p.m.—Council Meeting

1:30-3:00 p.m.—Committee on Compensation and Working Conditions

1. Welcome, introductions, administrative actions

2. Program updates:

Employment Cost Index release

Stock options testing

Electronic collection issues

Upcoming outreach activities

3. Variable pay—discussion of BLS activities and employer practices

4. Job content and evaluation mechanisms—discussion of employer practices

5. Discussion of agenda items for the Fall 2001 meeting

The meetings are open to the public. Persons with disabilities wishing to attend these meetings as observers should contact Tracy A. Jack, Liaison, Business Research Council, at (202) 691-5869, for appropriate accommodations.

Signed at Washington, DC the 1st day of April 2001.
Katharine G. Abraham,
Commissioner.

[FR Doc. 01-8643 Filed 4-6-01; 8:45 am]

BILLING CODE 4510-24-U